DEPARTMENT OF TRANSPORTATION

Federal Aviation Administration

14 CFR Part 39

[Docket No. FAA-2016-5579; Directorate Identifier 2016-CE-010-AD]

RIN 2120-AA64

Airworthiness Directives; Textron Aviation Inc. Airplanes

AGENCY: Federal Aviation Administration (FAA), DOT.

ACTION: Notice of proposed rulemaking (NPRM).

SUMMARY: We propose to supersede Airworthiness Directive (AD) 2008-15-06, which applies to certain Textron Aviation Inc. Models 175 and 175A airplanes (type certificate previously held by Cessna Aircraft Company). AD 2008-15-06 currently requires checking the airplane logbook to determine if the original engine mounting brackets have been replaced. If the original engine mounting brackets are still installed, the AD requires repetitively inspecting those brackets for cracks and replacing any cracked engine mounting bracket until all four original engine mounting brackets are replaced. Replacing all four original engine mounting brackets terminates the actions required in AD 2008-15-06. Since we issued AD 2008-15-06, we have determined that the applicability needs to be changed to add a serial number and take one out. This proposed AD would retain the actions required in AD 2008-15-06 and would change the Applicability section. We are proposing this AD to correct the unsafe condition on these products.

DATES: We must receive comments on this proposed AD by May 27, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Cessna Aircraft Company, Product Support, P.O. Box 7706, Wichita, Kansas 67277; telephone: (316) 517-5800; fax: (316) 942-9006; Internet: www.cessna.txtav.com. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2016-5579; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Gary Park, Aerospace Engineer, Wichita Aircraft Certification Office, 1801 Airport Road, Room 100, Wichita, Kansas 67209; telephone: (316) 946-4123; fax: (316) 946-4107, email: gary.park@faa.gov.

SUPPLEMENTARY INFORMATION:

Comments Invited

We invite you to send any written relevant data, views, or arguments about this proposed AD. Send your comments to an address listed under the ADDRESSES section. Include “Docket No. FAA-2016-5579; Directorate Identifier 2016-CE-010-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On July 15, 2008, we issued AD 2008-15-06, Amendment 39-15618 (73 FR 43845, July 29, 2008), (“AD 2008-15-06”), for certain Textron Aviation Inc. Models 175 and 175A airplanes (type certificate previously held by Cessna Aircraft Company). AD 2008-15-06 requires you to check the airplane logbook to determine if the original engine mounting brackets have been replaced. If the original engine mounting brackets are still installed, this AD requires you to repetitively inspect those brackets for cracks and replace any cracked engine mounting bracket. After replacing all four original engine mounting brackets, no further action will be required by this AD. AD 2008-15-06 resulted from a report of the engine detaching from the firewall on a Cessna Model 175 airplane during landing. We issued AD 2008-15-06 to detect and correct cracks in the engine mounting brackets, which could result in failure of the engine mounting bracket. This failure could lead to the engine detaching from the firewall.

Actions Since AD 2008-15-06 Was Issued

Since we issued AD 2008-15-06, we have determined that the applicability for Model 175A airplanes needs to be changed. We have determined that a serial number has been inadvertently included in the applicability and a serial number has been inadvertently omitted from the applicability.

Related Service Information Under 1 CFR Part 51

We reviewed Cessna Single Engine Service Bulletin SEB07-2, Revision 2, dated June 18, 2007. The service information describes procedures for inspecting the upper and lower engine mounting brackets on both the left and right sides for cracks and replacing cracked engine mounting brackets. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would retain the requirements of AD 2008-15-06 and would add a serial number to the applicability and take one out.

Costs of Compliance

We estimate that this AD would affect 1,218 airplanes in the U.S. registry.

We estimate the following costs to do each proposed inspection:

Labor cost | Parts cost | Total cost per airplane | Total cost on U.S. operators
7.5 work-hours × $80 per hour = $600 | Not applicable | $600 | $730,800

We estimate the following costs to do any necessary proposed replacements:

Labor cost | Parts cost | Total cost per airplane
3 work-hours per bracket × $80 per hour = $240 per bracket. 4 brackets per airplane × $240 per bracket = $960 | $200 per bracket. 4 × $200 = $800 for all 4 brackets | $440 per bracket. $1,760 to replace all 4 brackets.

There is no estimated cost of compliance difference between this proposed AD and AD 2008-15-06 since there is no change in the number of affected airplanes or in the proposed actions. The cost impact on the public would be in the removal of serial number 691 and the addition of serial number 619.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-15-06, Amendment 39-15618 (73 FR 43845, July 29, 2008), and adding the following new AD:

Textron Aviation Inc.: Docket No. FAA-2016-5579; Directorate Identifier 2016-CE-010.

(a) Comments Due Date

The FAA must receive comments on this AD action by May 27, 2016.

(b) Affected ADs

This AD replaces AD 2008-15-06, Amendment 39-15618 (73 FR 43845, July 29, 2008) (“AD 2008-15-06”).

(c) Applicability

This AD applies to the following Textron Aviation Inc. airplane models and serial numbers (type certificate previously held by Cessna Aircraft Company) that are certificated in any category.

(1) Airplanes previously affected by AD 2008-15-06

Model | Serial Nos. | Year manufactured
(1) 175 | 55001 through 55703 | 1958.
(2) 175 | 55704 through 56238 | 1959.
(3) 175 | 28700A, 626, and 640 | 1958 and 1959.
(4) 175A | 56239 through 56777 | 1960.

(2) New airplane affected by this AD:

Model | Serial Nos. | Year manufactured
175A | 619 | 1960.

(d) Subject

Joint Aircraft System Component (JASC)/Air Transport Association (ATA) of America Code 71, Power Plant.

(e) Unsafe Condition

This AD was prompted by the determination that an airplane needs to be added to the Applicability section and an airplane needs to be removed from the Applicability section. We are issuing this AD to detect and correct cracks in the engine mounting brackets, which could result in failure of the engine mounting bracket. This failure could lead to the engine detaching from the firewall.

(f) Compliance

Comply with this AD within the compliance times specified, unless already done.

(g) Airplane Logbook Check

(1) Check the airplane logbook to determine if all four of the original engine mounting brackets have been replaced. Do the logbook check at the following compliance time, as applicable. The owner/operator holding at least a private pilot certificate as authorized by section 43.7 may do this action.

(i) For airplanes previously affected by AD 2008-15-06: Within the next 30 days after September 2, 2008 (the effective date retained from AD 2008-15-06).

(ii) For the new airplane affected by this AD: Within the next 30 days after the effective date of this AD.

(2) If you can positively determine that all four of the original engine mounting brackets have been replaced, no further action is required. Make an entry into the aircraft logbook showing compliance with this portion of the AD in accordance with 14 CFR 43.9. The owner/operator holding at least a private pilot certificate as authorized by section 43.7 may do this action.

(3) If you cannot positively determine that all four of the original engine mounting brackets have been replaced, inspect each of the upper and lower engine mounting brackets on both the left and right sides for cracks following Cessna Single Engine Service Bulletin SEB07-2, Revision 2, dated June 18, 2007. Do the inspections at the following compliance times, as applicable.

(i) For airplanes previous affected by AD 2008-15-06: Initially inspect within the next 12 months after September 2, 2008 (the effective date retained from AD 2008-15-06). If no cracks are found, repetitively inspect thereafter at intervals not to exceed 500 hours time-in-service (TIS) until all four of the original engine mounting brackets are replaced.

(ii) For the new airplane affected by this AD: Initially inspect within the next 12 months after the effective date of this AD. If no cracks are found, repetitively inspect thereafter at intervals not to exceed 500 hours TIS until all four of the original engine mounting brackets are replaced.

(h) Engine Mounting Bracket Replacement

For all airplanes affected by this AD: If cracks are found in any of the engine mounting brackets during any inspection required in paragraph (g)(3) of this AD, including all subparagraphs, before further flight after the inspection in which cracks are found, replace the cracked engine mounting bracket(s) following Cessna Single Engine Service Bulletin SEB07-2, Revision 2, dated June 18, 2007. Replacing the cracked engine mounting bracket terminates the repetitive inspections required in paragraphs (g)(3)(i) and (g)(3)(ii) of this AD only for the replaced engine mounting bracket.

(i) Terminating Action

To terminate the repetitive inspections required in paragraphs (g)(3)(i) and (g)(3)(ii) of this AD, you may replace all four original engine mounting brackets following Cessna Single Engine Service Bulletin SEB07-2, Revision 2, dated June 18, 2007, at the following compliance times, as applicable.

(1) For airplanes previous affected by AD 2008-15-06: At any time before or after the initial inspection required in paragraph (g)(3)(i) of this AD.

(2) For the new airplane affected by this AD: At any time before or after the initial inspection required in paragraph (g)(3)(ii) of this AD.

(j) Engine Mounting Bracket Disposal

For all airplanes affected by this AD: Before further flight after the engine mounting bracket is removed for replacement, dispose of every replaced bracket following 14 CFR 43.10, paragraph (c)(6), which states the following: “Mutilation. The part may be mutilated to deter its installation in a type certificated product. The mutilation must render the part beyond repair and incapable of being reworked to appear to be airworthy.”

(k) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l) of this AD.

(2) Before using any approved AMOC, notify your appropriate principal inspector, or lacking a principal inspector, the manager of the local flight standards district office/certificate holding district office.

(3) AMOCs approved for AD 2008-15-06 are approved as AMOCs for the corresponding provisions of this AD.

(l) Related Information

(1) For more information about this AD, contact Gary Park, Aerospace Engineer, Wichita ACO, 1801 Airport Road, Room 100, Wichita, Kansas 67209; telephone: (316) 946-4123; fax: (316) 946-4107, email: gary.park@faa.gov.

(2) For service information identified in this AD, contact Cessna Aircraft Company, Product Support, P.O. Box 7706, Wichita, Kansas 67277; telephone: (316) 517-5800; fax: (316) 942-9006; Internet: www.cessna.txtav.com. You may view this referenced service information at the FAA, FAA, Small Airplane Directorate, 901 Locust, Kansas City, Missouri 64106. For information on the availability of this material at the FAA, call (816) 329-4148.

Issued in Kansas City, Missouri, on April 4, 2016.
Pat Mullen,
Acting Manager, Small Airplane Directorate, Aircraft Certification Service.

[FR Doc. 2016-08259 Filed 4-11-16; 8:45 am]

BILLING CODE 4910-13-P